COMMISSION ON CIVIL RIGHTS

Sunshine Act; Meetings

Date and Time: Thursday, May 4, 2006, 3 p.m., Commission Meeting.

Place: U.S. Commission on Civil Rights, 624 Ninth Street, NW., Room 540, Washington, DC 20425.

Status:

Agenda

I. Approval of Agenda.

II. Approval of Minutes of March 10, April 3, and April 7, 2006 Meetings.

III. Announcements.

IV. Staff Director's Report.

V. Program Planning.

• Voting Rights Act Statutory Report.

• Report from the Briefing on the Native Hawaiian Government Reorganization Act.

• Report from the Briefing on Disparity Studies.

• Annual Program Planning.

VI. Management and Operations

• Web site: Posting Commissioner letters to the U.S. Department of Education expressing concerns with the American Bar Association's new diversity standards and regarding the ABA's petition for renewal of reaccreditation authority.

VII. State Advisory Committee Issues.

• Recharter Packages.

VIII. Future Agenda Items.

Any business not completed at the meeting on Thursday, May 4, 2006, may be addressed on Friday, May 5, 2006, following the briefing.

Contact Person For Further Information: Audrey Wright, Office of the Staff Director (202) 376-7700.

Kenneth L. Marcus,
Staff Director, Acting General Counsel.

[FR Doc. 06-4017 Filed 4-25-06; 11:53 am]

BILLING CODE 6335-01-M